SOCIAL SECURITY ADMINISTRATION

Finding Regarding the Social Insurance System of Bosnia and Herzegovina

AGENCY: Social Security Administration.

ACTION: Notice of finding regarding the Social Insurance System of Bosnia and Herzegovina.

FINDING: Section 202(t)(1) of the Social Security Act (42 U.S.C. 402(t)(1)) prohibits payment of monthly benefits to any individual who is not a United States citizen or national for any month after he or she has been outside the United States for 6 consecutive months, and prior to the first month thereafter for all of which the individual has been in the United States. This prohibition does not apply to such an individual where one of the exceptions described in sections 202(t)(2) through 202(t)(5) of the Social Security Act (42 U.S.C. 402(t)(2) through 402(t)(5)) affects his or her case.

Section 202(t)(2) of the Social Security Act provides that, subject to certain residency requirements of section 202(t)(11), the prohibition against payment shall not apply to any individual who is a citizen of a country which the Commissioner of Social Security finds has in effect a social insurance system which is of general application in such country and which:

(a) Pays periodic benefits, or the actuarial equivalent thereof, on account of old age, retirement, or death; and

(b) Permits individuals who are United States citizens but not citizens of that country and who qualify for such benefits to receive those benefits, or the actuarial equivalent thereof, while outside the foreign country regardless of the duration of the absence.

The Commissioner of Social Security has delegated the authority to make such a finding to the Associate Commissioner for International Programs. Under that authority, the Associate Commissioner for International Programs has approved a finding that Bosnia and Herzegovina, as of April 7, 1992, has social insurance systems of general application which:

(a) Pay periodic benefits, or the actuarial equivalent thereof, on account of old age, retirement, or death; and

(b) Permit United States citizens who are not citizens of Bosnia and Herzegovina and who qualify for the relevant benefits to receive those benefits, or their actuarial equivalent, while outside of Bosnia or Herzegovina, regardless of the duration of the absence of these individuals from Bosnia and Herzegovina.

On April 7, 1992, the United States recognized the independence of Bosnia and Herzegovina. Before that time, it was considered to be part of the former Socialist Federal Yugoslav Republic which had a system that was determined to meet section 202(t)(2) of the Social Security Act as of March 25, 1959.

Although it was ascertained at the time of independence that the old Yugoslav law was still in effect in Bosnia and Herzegovina, it could not be determined to what extent the war had affected the actual operation of the social insurance system (as contact with appropriate foreign officials was not possible at that time). Thus, citizens of Bosnia and Herzegovina receiving U.S. Social Security benefits under the social insurance exception had their payments suspended in 1995 pending a decision as to whether the system continued to meet the provisions of section 202(t)(2) as of April 7, 1992.

Since March 1994, the country of Bosnia and Herzegovina has been comprised of two territories, the Federation of Bosnia and Herzegovina and the Republic of Srpska. The country of Bosnia and Herzegovina had in effect as of April 7, 1992, a social insurance system which met the requirements of section 202(t)(2) of the Social Security Act (42 U.S.C. 402(t)(2)). The Federation of Bosnia and Herzegovina had in effect as of August 1, 1998, a social insurance system which met the requirements of section 202(t)(2) of the Social Security Act and the Republic of Srpska had in effect, as of January 1, 1994, a social insurance system which met the requirements of section 202(t)(2) of the Social Security Act. The Federation and the Republic are part of the country of Bosnia and Herzegovina and their social insurance systems are derived from, and replaced, the national social insurance system.

FOR FURTHER INFORMATION CONTACT: Donna Powers, Room 1104, West High Rise Building, P.O. Box 17741, 6401 Security Boulevard, Baltimore, MD 21235; (410) 965-3568.

(Catalog of Federal Domestic Assistance: Program Nos. 96.001 Social Security—Disability Insurance; 96.002 Social Security—Retirement Insurance; 96.004 Social Security—Survivors Insurance)

Dated: May 05, 2000.
Joseph A. Gribbin,
Associate Commissioner for International Programs.

[FR Doc. 00-12684 Filed 5-19-00; 8:45 am]

BILLING CODE 4191-02-U